ARCHITECTURAL AND TRANSPORTATION BARRIERS COMPLIANCE BOARD

36 CFR Ch. XI

Unified Agenda of Federal Regulatory and Deregulatory Actions

AGENCY: Architectural and Transportation Barriers Compliance Board.

ACTION: Semiannual regulatory agenda.

SUMMARY: The Architectural and Transportation Barriers Compliance Board submits the following agenda of proposed regulatory activities which may be conducted by the Agency during the next 12 months. This regulatory agenda may be revised by the Agency during the coming months as a result of action taken by the Board.

ADDRESSES: Architectural and Transportation Barriers Compliance Board, 1331 F Street NW., Suite 1000, Washington, DC 20004-1111.

FOR FURTHER INFORMATION CONTACT: For information concerning Board regulations and proposed actions, contact James J. Raggio, General Counsel, 202 272-0040 (voice) or 202 272-0034 (TTY).

James J. Raggio,
General Counsel.

Architectural and Transportation Barriers Compliance Board—Proposed Rule Stage
Sequence No. | Title | Regulation Identifier No.
431 | Americans With Disabilities Act (ADA) Accessibility Guidelines for Transportation Vehicles: Passenger Vessels | 3014-AA11

Architectural and Transportation Barriers Compliance Board—Long-Term Actions
Sequence No. | Title | Regulation Identifier No.
432 | Americans With Disabilities Act (ADA) Accessibility Guidelines for Buildings and Facilities: Public Rights-of-Way | 3014-AA26

ARCHITECTURAL AND TRANSPORTATION BARRIERS COMPLIANCE BOARD (ATBCB)

Proposed Rule Stage

431. Americans With Disabilities Act (ADA) Accessibility Guidelines for Transportation Vehicles: Passenger Vessels

Legal Authority: 42 U.S.C. 12204, Americans With Disabilities Act of 1990

Abstract: This regulation will amend the Americans With Disabilities Act (ADA) Accessibility Guidelines for Transportation Vehicles to include additional requirements for ferries, excursion boats, and other passenger vessels.

Timetable:

Action | Date | FR Cite
Notice of Intent to Establish Advisory Committee | 03/30/98 | 63 FR 15175
Establishment of Advisory Committee | 08/12/98 | 63 FR 43136
Availability of Draft Guidelines | 11/26/04 | 69 FR 69244
ANPRM | 11/26/04 | 69 FR 69246
Comment Period Extended | 03/22/05 | 70 FR 14435
ANPRM Comment Period End | 07/28/05 |
Availability of Draft Guidelines | 07/07/06 | 71 FR 38563
Notice of Intent to Establish Advisory Committee | 06/25/07 | 72 FR 34653
Establishment of Advisory Committee | 08/13/07 | 72 FR 45200
NPRM | 04/00/12 |

Regulatory Flexibility Analysis Required: Yes.

Agency Contact: James Raggio, General Counsel, Architectural and Transportation Barriers Compliance Board, 1331 F Street NW., Suite 1000, Washington, DC 20004-1111, Phone: 202 272-0040, TDD Phone: 202 272-0062, Fax: 202 272-0081, Email: raggio@access-board.gov.

RIN: 3014-AA11

ARCHITECTURAL AND TRANSPORTATION BARRIERS COMPLIANCE BOARD (ATBCB)

Long-Term Actions

432. Americans With Disabilities Act (ADA) Accessibility Guidelines for Buildings and Facilities: Public Rights-of-Way

Legal Authority: 42 U.S.C. 12204, Americans With Disabilities Act; 29 U.S.C. 792, Rehabilitation Act

Abstract: This regulation will amend the accessibility guidelines for the Americans With Disabilities Act (ADA) and the Architectural Barriers Act to include requirements for public rights-of-way.

Timetable:

Action | Date | FR Cite
Notice of Intent to Form Advisory Committee | 08/12/99 | 64 FR 43980
Notice of Appointment of Advisory Committee Members | 10/20/99 | 64 FR 56482
Availability of Draft Guidelines | 06/17/02 | 67 FR 41206
Availability of Draft Guidelines | 11/23/05 | 70 FR 70734
NPRM | 07/26/11 | 76 FR 44664
NPRM Comment Period End | 11/23/11 |
Final Action | 12/00/12 |

Regulatory Flexibility Analysis Required: Yes.

Agency Contact: James Raggio, General Counsel, Architectural and Transportation Barriers Compliance Board, 1331 F Street NW., Suite 1000, Washington, DC 20004-1111, Phone: 202 272-0040, TDD Phone: 202 272-0062, Fax: 202 272-0081, Email: raggio@access-board.gov.

RIN: 3014-AA26

[FR Doc. 2012-1655 Filed 2-10-12; 8:45 am]

BILLING CODE 8150-01-P